DEPARTMENT OF THE INTERIOR

Bureau of Land Management

[ES-020-06-1610-DP-028M]

Notice of Availability of the Alabama and Mississippi Draft Resource Management Plan and Environmental Impact Statement

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan/Environmental Impact Statement (RMP/EIS) for Alabama and Mississippi and by this notice is announcing the opening of the comment period.

DATES: To assure that they will be considered, BLM must receive written comments on the Draft RMP/EIS within 90 days following the date the Environmental Protection Agency publishes their Notice of Availability in the Federal Register. The BLM will announce future meetings or hearings and any other public involvement activities at least 15 days in advance through public notices, media news releases, and/or mailings.

ADDRESSES: You may submit comments by any of the following methods:

• Web Site: http://www.es.blm.gov/AL_MS_RMP.

• E-mail: jcomment@blm.gov.

• Fax: (601) 977-5440.

• Mail: Send to the contact listed below.

FOR FURTHER INFORMATION CONTACT: Gary Taylor, Planning and Environmental Coordinator, Bureau of Land Management, Jackson Field Office, 411 Briarwood Drive, Jackson, Mississippi 39206. Mr. Taylor may also be contacted by telephone: (601) 977-5413.

SUPPLEMENTARY INFORMATION: The Draft RMP/EIS addresses all BLM-administered lands and mineral estate in Alabama and Mississippi. This includes 333 acres of public surface land including mineral estate in Baldwin, Calhoun, Chilton, Coosa, Geneva, Mobile, Shelby and Talladega Counties in Alabama and in Hancock County, Mississippi. The Draft RMP/EIS also covers 704,850 acres of Federal mineral estate where the surface is non-Federal and 126,570 acres of Federal minerals where the surface is managed by Federal agencies other than the BLM or the Forest Service. The issues addressed in the Draft RMP/EIS are mineral (oil, gas, and coal) leasing and ownership adjustment of the scattered surface tracts.

The Alabama and Mississippi RMP will be the first BLM land use plan for these states. Until now BLM resource management in Alabama and Mississippi has been implemented through broad policy guidance and by project-specific environmental assessments. When the RMP is approved, the BLM will be better able to respond to mineral leasing requests and deal efficiently with the long-term management of its scattered lands.

The BLM published its Notice of Intent to prepare the Alabama and Mississippi RMP/EIS in the Federal Register on July 12, 2002. Letters were sent to Federal and state agencies, as well as county supervisors and commissioners to inform them of the planning process and to the governors of both states, inviting them to be cooperating agencies. The State of Mississippi accepted the invitation to become a cooperating agency. The BLM also contacted Native American tribes to invite them to participate in the planning process and coordinated closely with the U.S. Fish and Wildlife Service in the development of oil and gas lease stipulations and best management practices. A public workshop was held in Gulf Shores, Alabama on September 2, 2004, to solicit additional comments for developing alternatives.

Four alternatives were developed in response to the issues identified during the planning process. The “no action” alternative represents current management and is identified as Alternative 1. Three additional “action” alternatives present varying levels of oil and gas leasing constraints to protect sensitive species and their habitats. The alternatives also range from retaining all the surface tracts under BLM management to transferring them to other agencies or out of Federal ownership. Alternative 3 was identified as the preferred alternative because it provides the best balance in protecting sensitive resources while allowing responsive mineral development and surface ownership adjustment for most of the scattered surface tracts.

Please note that public comments and information submitted will be available for public review and disclosure at the above address during regular business hours (7:45 a.m. to 4:30 p.m.), Monday through Friday, except holidays. Before including your address, phone number, e-mail, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety. Copies of the Draft Alabama and Mississippi RMP/EIS are available in the Jackson Field Office at the above address.

A. Barron Bail,
Acting State Director.

[FR Doc. E7-16165 Filed 8-16-07; 8:45 am]

BILLING CODE 4310-GJ-P